FEDERAL COMMUNICATIONS COMMISSION

47 CFR Part 73

[DA 06-1585; MB Docket No. 05-32; RM-10988]

Radio Broadcasting Services; Homerville, GA and Jacksonville, FL

AGENCY: Federal Communications Commission.

ACTION: Final rule.

SUMMARY: At the request of Association for the Studies of American Heritage Corporation, the Audio Division allots Channel 246A at Homerville, Georgia, as that community's second local aural transmission service. To accommodate the Homerville allotment, Station WKQL(FM), Jacksonville, Florida, Channel 245C, is reclassified to specify operation on Channel 245C0. Channel 246A is allotted at Homerville with a site restriction of 11.1 kilometers (6.9 miles) northwest of the community at coordinates 31-07-16 NL and 82-48-51 WL. Station WKQL(FM) is reclassified to specify operation on Channel 245C0 rather than Channel 245C, at Jacksonville, Florida at its license coordinates 30-16-34 NL and 81-33-53 WL. 11.7 kilometers. A filing window period for Channel 246A at Homerville will not be opened at this time. Instead, the issue of opening this allotment for auction will be addressed by the Commission in a subsequent Order.

DATES: Effective September 25, 2006.

ADDRESSES: Secretary, Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 05-32, adopted August 9, 2006, and released August 11, 2006. At the request of Association for the Studies of American Heritage Corporation, the Audio Division allots Channel 246A at Homerville, Georgia, as that community's first local aural transmission service. 70 FR 8333 (February 18, 2005). The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Florida is amended by removing Channel 245C at Jacksonville and adding Channel 245C0 at Jacksonville.

3. Section 73.202(b), the Table of FM Allotments under Georgia is amended by adding Channel 246A at Homerville.

Federal Communications Commission.
John A. Karousos,
Assistant Chief, Audio Division Media Bureau.

[FR Doc. E6-14156 Filed 8-29-06; 8:45 am]

BILLING CODE 6712-01-P